COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: May 5, 2024.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION:

Deletions

On 3/1/2024, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

5350-00-187-6272—Cloth, Abrasive, Aluminum-oxide, 100 Grit, Jean Back, Grey, 50 Yard, 1″, BX/10

5350-00-187-6283—Cloth, Abrasive, Aluminum-oxide, 100 Grit, Jean Back, Grey, 50 Yard, 1½″, BX/10

5350-00-187-6281—Cloth, Abrasive, Aluminum-oxide, 150 Grit, Jean Back, Grey, 50 Yard, 1½″, BX/10

5350-00-229-3080—Cloth, Abrasive, Aluminum-oxide, 240 Grit, Jean Back, Grey, 50 Yard, 3″, BX/10

5350-00-229-3094—Cloth, Abrasive, Aluminum-oxide, 150 Grit, Jean Back, Grey, 50 Yard, 3″

Authorized Source of Supply: Louisiana Association for the Blind, Shreveport, LA

Contracting Activity: GSA/FSS GREATER SOUTHWEST ACQUISITI, FORT WORTH, TX

NSN(s)—Product Name(s):

8410-01-456-5800—Slacks, Dress, Navy, Women's, Blue, 18JR

8410-01-456-5766—Slacks, Dress, Navy, Women's, Blue, 22WT

8410-01-456-5769—Slacks, Dress, Navy, Women's, Blue, 24JP

8410-01-456-5780—Slacks, Dress, Navy, Women's, Blue, 18JP

8410-01-456-5771—Slacks, Dress, Navy, Women's, Blue, 24JR

8410-01-456-5774—Slacks, Dress, Navy, Women's, Blue, 24P

8410-01-456-5784—Slacks, Dress, Navy, Women's, Blue, 24WR

8410-01-456-5786—Slacks, Dress, Navy, Women's, Blue, 24WT

8410-01-456-5790—Slacks, Dress, Navy, Women's, Blue, 26JP

8410-01-456-5794—Slacks, Dress, Navy, Women's, Blue, 26JR

8410-01-456-5803—Slacks, Dress, Navy, Women's, Blue, 18WT

8410-01-456-5806—Slacks, Dress, Navy, Women's, Blue, 20JP

8410-01-456-5808—Slacks, Dress, Navy, Women's, Blue, 20JR

8410-01-456-5809—Slacks, Dress, Navy, Women's, Blue, 20P

8410-01-456-5812—Slacks, Dress, Navy, Women's, Blue, 20WT

8410-01-456-5814—Slacks, Dress, Navy, Women's, Blue, 22JP

8410-01-456-5815—Slacks, Dress, Navy, Women's, Blue, 22JR

8410-01-456-5817—Slacks, Dress, Navy, Women's, Blue, 22P

8410-01-456-5820—Slacks, Dress, Navy, Women's, Blue, 22R

8410-01-456-6281—Slacks, Dress, Navy, Women's, Blue, 26MP

8410-01-456-6286—Slacks, Dress, Navy, Women's, Blue, 26R

8410-01-456-6290—Slacks, Dress, Navy, Women's, Blue, 26MT

8410-01-456-6292—Slacks, Dress, Navy, Women's, Blue, 26WR

8410-01-456-6295—Slacks, Dress, Navy, Women's, Blue, 26WT

8410-01-456-6302—Slacks, Dress, Navy, Women's, Blue, 22MT

8410-00-0SL-K608—Slacks, Dress, Navy, Women's, Blue, Special Measurement

8410-01-373-4404—Slacks, Commissioned and Enlisted, Navy, Women's, Blue, 4P

8410-01-373-4405—Slacks, Commissioned and Enlisted, Navy, Women's, Blue, 6MP

8410-01-373-4406—Slacks, Commissioned and Enlisted, Navy, Women's, Blue, 6WP

8410-01-373-4407—Slacks, Commissioned and Enlisted, Navy, Women's, Blue, 6WR

8410-01-373-4408—Slacks, Commissioned and Enlisted, Navy, Women's, Blue, 8P

8410-01-373-4409—Slacks, Commissioned and Enlisted, Navy, Women's, Blue, 8MT

8410-01-373-4410—Slacks, Commissioned and Enlisted, Navy, Women's, Blue, 8WP

8410-01-373-4411—Slacks, Commissioned and Enlisted, Navy, Women's, Blue, 8WR

8410-01-375-4827—Slacks, Commissioned and Enlisted, Navy, Women's, Blue, 10WT

8410-01-375-4828—Slacks, Commissioned and Enlisted, Navy, Women's, Blue, 12JP

8410-01-375-4829—Slacks, Commissioned and Enlisted, Navy, Women's, Blue, 12JR

8410-01-375-4830—Slacks, Commissioned and Enlisted, Navy, Women's, Blue, 12P

8410-01-375-4831—Slacks, Commissioned and Enlisted, Navy, Women's, Blue, 12T

8410-01-375-4832—Slacks, Commissioned and Enlisted, Navy, Women's, Blue, 12WP

8410-01-375-4833—Slacks, Commissioned and Enlisted, Navy, Women's, Blue, 12WR

8410-01-375-4834—Slacks, Commissioned and Enlisted, Navy, Women's, Blue, 12WT

8410-01-375-4835—Slacks, Commissioned and Enlisted, Navy, Women's, Blue, 14JP

8410-01-375-4836—Slacks, Commissioned and Enlisted, Navy, Women's, Blue, 14JR

8410-01-375-4837—Slacks, Commissioned and Enlisted, Navy, Women's, Blue, 14JT

8410-01-375-4838—Slacks, Commissioned and Enlisted, Navy, Women's, Blue, 14P

8410-01-375-4839—Slacks, Commissioned and Enlisted, Navy, Women's, Blue, 14T

8410-01-375-4840—Slacks, Commissioned and Enlisted, Navy, Women's, Blue, 14WP

8410-01-375-4841—Slacks, Commissioned and Enlisted, Navy, Women's, Blue, 14WR

8410-01-375-4842—Slacks, Commissioned and Enlisted, Navy, Women's, Blue, 14WT

8410-01-375-4843—Slacks, Commissioned and Enlisted, Navy, Women's, Blue, 16JP

8410-01-375-4844—Slacks, Commissioned and Enlisted, Navy, Women's, Blue, 16JR

8410-01-375-4845—Slacks, Commissioned and Enlisted, Navy, Women's, Blue, 16P

8410-01-375-4846—Slacks, Commissioned and Enlisted, Navy, Women's, Blue, 16T

8410-01-375-4847—Slacks, Commissioned and Enlisted, Navy, Women's, Blue, 16WR

8410-01-375-4848—Slacks, Commissioned and Enlisted, Navy, Women's, Blue, 16WT

8410-01-375-4849—Slacks, Commissioned and Enlisted, Navy, Women's, Blue, 18P

8410-01-375-4850—Slacks, Commissioned and Enlisted, Navy, Women's, Blue, 18T

8410-01-375-4851—Slacks, Commissioned and Enlisted, Navy, Women's, Blue, 18WR

8410-01-375-4852—Slacks, Commissioned and Enlisted, Navy, Women's, Blue, 4R

8410-01-375-4853—Slacks, Commissioned and Enlisted, Navy, Women's, Blue, 6MR

8410-01-375-4854—Slacks, Commissioned and Enlisted, Navy, Women's, Blue, 8MR

8410-01-375-4855—Slacks, Commissioned and Enlisted, Navy, Women's, Blue, 10R

8410-01-375-4856—Slacks, Commissioned and Enlisted, Navy, Women's, Blue, 12R

8410-01-375-4857—Slacks, Commissioned and Enlisted, Navy, Women's, Blue, 14R

8410-01-375-4858—Slacks, Commissioned and Enlisted, Navy, Women's, Blue, 16R

8410-01-375-4859—Slacks, Commissioned and Enlisted, Navy, Women's, Blue, 18R

8410-01-375-4860—Slacks, Commissioned and Enlisted, Navy, Women's, Blue, 20MR

8410-01-377-9378—Slacks, Commissioned and Enlisted, Navy, Women's, Blue, 10WR

8410-01-377-9434—Slacks, Commissioned and Enlisted, Navy, Women's, Blue, 10JR

8410-01-377-9508—Slacks, Commissioned and Enlisted, Navy, Women's, Blue, 10T

8410-01-377-9717—Slacks, Commissioned and Enlisted, Navy, Women's, Blue, 10WP

8410-01-377-9737—Slacks, Commissioned and Enlisted, Navy, Women's, Blue, 10JP

8410-01-377-9791—Slacks, Commissioned and Enlisted, Navy, Women's, Blue, 10JT

8410-01-377-9799—Slacks, Commissioned and Enlisted, Navy, Women's, Blue, 10P

8410-01-456-5779—Slacks, Dress, Navy, Women's, Blue, 24 Misses Regular

8410-01-456-5781—Slacks, Dress, Navy, Women's, Blue, 24 Misses Tall

8410-01-456-5810—Slacks, Dress, Navy, Women's, Blue, 20 Misses Tall

8410-01-456-5811—Slacks, Dress, Navy, Women's, Blue, 20 Women's Regular

8410-01-456-6306—Slacks, Dress, Navy, Women's, Blue, 22 Women's Regular

Contracting Activity: DLA TROOP SUPPORT, PHILADELPHIA, PA

NSN(s)—Product Name(s):

7210-00-259-9006—Pillowcase, Cotton/Polyester, White, 20½″ x 32½″

Authorized Source of Supply: The Lighthouse for the Blind in New Orleans, Inc., New Orleans, LA

Contracting Activity: GSA/FSS GREATER SOUTHWEST ACQUISITI, FORT WORTH, TX

Service(s)

Service Type: Furniture Design and Configuration Services

Mandatory for: Rhode Island National Guard, 330 Camp Street, Providence, RI

Authorized Source of Supply: Industries for the Blind and Visually Impaired, Inc., West Allis, WI

Contracting Activity: DEPT OF THE ARMY, W7NY USPFO ACTIVITY RI ARNG

Michael R. Jurkowski,
Director, Business Operations.

[FR Doc. 2024-07260 Filed 4-4-24; 8:45 am]

BILLING CODE 6353-01-P